DEPARTMENT OF DEFENSE

Office of the Secretary

[Docket ID: DoD-2009-HA-0157]

Proposed Collection; Comment Request

AGENCY: Office of the Assistant Secretary of Defense for Health Affairs, DoD.

ACTION: Notice.

SUMMARY: In compliance with Section 3506(c)(2)(A) of the Paperwork Reduction Act of 1995, the Office of the Assistant Secretary of Defense for Health Affairs announces the submission of a new information collection. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 4, 2010.

ADDRESSES: You may submit comments, identified by docket number and title, by any of the following methods:

• Federal eRulemaking Portal: http://www.regulations.gov. Follow the instructions for submitting comments.

• Mail: Federal Docket Management System Office, 1160 Defense Pentagon, Room 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Office of the Assistant Secretary of Defense for Health Affairs (OASD), ATTN: Ms. Kathie McCracken, Clinical & Program Policy, 5111 Leesburg Pike, Suite 810A, Falls Church, VA. 22041-3206, or call (703) 681-1716.

Title; Associated Form; and OMB Number: Retired Troops to Nurse Teachers Survey; OMB Control Number 0720-TBD.

Needs and Uses: The 2008 National Defense Authorization Act (Conference Report) gives impetus to this study, which calls for an evaluation of the provision in the Troops to Nurse Teachers (TNT) Act of 2008. Specifically, DoD will examine the feasibility and merits of this congressional proposal that outlines a program to encourage former military nurses to take faculty positions in nursing schools, for the purpose of encouraging more nurse graduates to consider military service. The Department will survey military nurses who are on active duty but close to retirement eligibility (20 years of service), or recently retired. The primary purpose of collecting data from this group is to determine what factors would attract a retiree to teach nursing. The survey will also cover civilian nursing school students to determine what incentives might entice them to seek positions in the military.

Affected Public: Individuals or households.

Annual Burden Hours: 576.

Number of Respondents: 1,744.

Responses per Respondent: 1.

Average Burden per Response: .33 (20 minutes).

Frequency: One Time.

SUPPLEMENTARY INFORMATION:

Summary of Information Collection

The purpose of this study is to respond to the 2008 National Defense Authorization Act (Conference Report) to evaluate the provision in the Troops to Nurse Teachers (TNT) Act 2008 that encourages retired military nurses to become nurse educators. This study gives impetus for a one-time and voluntary data collection effort that yields timely and objective information that can be used to help inform DoD policy makers about the critical need for increasing and maintaining the supply of military nurses. Specifically, the study will examine the feasibility and merits of the Congressional proposal to create incentives for former military nurses to take faculty positions in nursing schools, for the purpose of encouraging more nurse graduates to consider military service. In doing so, the study will evaluate the retired nursing provision in the context of the broader issue of military nurse supply. RAND will survey military nurses who are on active duty but close to retirement eligibility (20 years of service), or recently retired. The primary purpose of collecting data from this group is to determine what factors would attract a retiree to teach nursing. The process will also involve a survey of current civilian nursing school students who are in their last year of an accredited BSN degree program, and are eligible to enter the military upon graduation. The primary purpose for collecting data from students is to explore what factors may or may not influence them to join the military, including a range of financial and educational incentives.

Dated: October 28, 2009.
Patricia L. Toppings,
OSD Federal Register Liaison Officer, Department of Defense.

[FR Doc. E9-26491 Filed 11-3-09; 8:45 am]

BILLING CODE 5001-06-P